DEPARTMENT OF HOUSING AND URBAN DEVELOPMENT

[Docket No. FR-5759-N-19]

60-Day Notice of Proposed Information Collection: Assessment of HUD-Funded or Designated Neighborhood Networks Centers and Other Computer Labs Within Public Housing Authorities and Multifamily Housing Properties

AGENCY: Office of the Assistant Secretary for Public and Indian Housing, PIH, HUD; Office of the Deputy Assistant Secretary for Multifamily Housing, MF, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 9, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Assessment of HUD-Funded or Designated Neighborhood Networks Centers and Other Computer Labs within Public Housing Authorities and Multifamily Housing Properties.

OMB Approval Number: Pending OMB approval.

Type of Request: New.

Form Number: None.

Description of the need for the information and proposed use: From the mid-1990s through 2010, HUD either funded or provided technical assistance to encourage the establishment of Neighborhood Networks computer centers in public and assisted housing. HUD is interested in learning about the current status of these computer labs (and others that may have been opened outside of the Neighborhood Networks initiative). In addition, HUD is interested in learning about the ability of these centers to provide digital literacy and other educational training, as well as challenges these centers face in maintaining operations.

Respondents: Public housing authorities and multifamily housing owners.

Estimated Number of Respondents: 3,200 public housing authorities; and 100 Multifamily owners.

Information collection | Number of respondents | Frequency of response | Responses per annum | Burden hour per response | Annual burden hours | Hourly cost per response | Annual cost
Total | 1,000 | 1 | 1 | 5.5 | 5,500 | $110.00 | $110,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 23, 2014.
Michael Dennis,
Director, Office of Housing Voucher Programs.

[FR Doc. 2015-00107 Filed 1-7-15; 8:45 am]

BILLING CODE 4210-67-P